NATIONAL ARCHIVES AND RECORDS ADMINISTRATION

[NARA-2014-023]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 15, 2014. Once the appraisal of the records is completed, NARA will send a copy of the schedule. NARA staff usually prepare appraisal memoranda that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless specified otherwise. An item in a schedule is media-neutral when the disposition instructions may be applied to records regardless of the medium in which the records are created and maintained. Items included in schedules submitted to NARA on or after December 17, 2007, are media-neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Economic Development Administration (DAA-0378-2014-0009, 7 items, 7 temporary items). Grant award records, records relating to operational and program guidance procedures, records relating to standard award conditions, research and technical assistance files, and national technical assistance reports.

2. Department of Health and Human Services, Centers for Medicare & Medicaid Services (DAA-0440-2013-0001, 1 item, 1 temporary item). Records used to facilitate investigations of fraud and abuse.

3. Department of Homeland Security, Agency-wide (DAA-0563-2013-0005, 14 items, 2 temporary items). Records of the Department and its component agencies including write-in campaign files and non-actionable correspondence. Proposed for permanent retention are senior official records including annual reports, briefing books, correspondence, subject files, policy records, and daily activity records.

4. Department of Justice, United States Marshals Service (DAA-0527-2013-0004, 2 items, 2 temporary items). Prisoner manifest files and movement request forms.

5. Department of Justice, United States Marshals Service (DAA-0527-2013-0015, 4 items, 4 temporary items). Asset forfeiture records including seized property and evidence registers, process receipt and return forms, property case files, and pre-seizure case files.

6. Department of Justice, United States Marshals Service (DAA-0527-2013-0017, 1 item, 1 temporary item). Hiring and personnel records of the Judicial Services Division.

7. Department of Justice, United States Marshals Service (DAA-0527-2013-0018, 2 items, 1 temporary item). Administrative policy records. Proposed for permanent retention are operational policies.

8. Department of Justice, United States Marshals Service (DAA-0527-2013-0022, 2 items, 1 temporary item). Strategic planning working papers. Proposed for permanent retention are published strategic planning files.

9. Department of Justice, United States Marshals Service (DAA-0527-2013-0024, 1 item, 1 temporary item). Administrative records of the Office of Court Security, including sequestered jury logs.

10. Department of Justice, United States Marshals Service (DAA-0527-2013-0027, 3 items, 1 temporary item). Records of speeches and testimony given by agency staff. Proposed for permanent retention are records of speeches, testimony, and related background materials of high-level agency officials.

11. Department of Justice, United States Marshals Service (DAA-0527-2014-0001, 2 items, 1 temporary item). Administrative publications. Proposed for permanent retention are mission-related publications.

12. Department of the Navy, Agency-wide (DAA-0024-2013-0002, 3 items, 1 temporary item). Copies of monthly rosters of enlisted personnel. Proposed for permanent retention are monthly Department of Navy rosters and legacy microfilm of rosters.

13. Department of the Navy, United States Marine Corps (DAA-0127-2014-0005, 1 item, 1 temporary item). Master files of an electronic information system used to manage service and supply requests and the availability of equipment and personnel.

14. Department of Transportation, Federal Railroad Administration (DAA-0399-2013-0001, 2 items, 1 temporary item). Railroad density data sheets. Proposed for permanent retention are railroad density maps.

15. National Archives and Records Administration, Government-wide (DAA-GRS-2013-0003, 6 items, 6 temporary items). General Records Schedule for financial transaction records related to procurement, bill payment, and debt collection; accounting for day-to-day financial administration; accounting for property, equipment, and other assets; cost accounting; and contractor payroll records.

16. National Archives and Records Administration, Government-wide (DAA-GRS-2013-0007, 15 items, 15 temporary items). General Records Schedule for records related to responses to requests for access to government information and records related to the protection of classified or controlled information from unauthorized disclosure.

17. Postal Regulatory Commission, Agency-wide (N1-458-12-1, 44 items, 21 temporary items). Market test and other lesser dockets, monthly and quarterly reports, documents not certified into docket records, staff assignment memos, and other administrative records that do not directly involve formal commission actions. Proposed for permanent retention are minutes of commission meetings; correspondence files for chairman, commissioners, and other high officials; publications; research papers and reports; annual compliance determination dockets; and other substantive program records.

Dated: April 8, 2014.
Paul M. Wester, Jr.,
Chief Records Officer for the U.S. Government.

[FR Doc. 2014-08505 Filed 4-14-14; 8:45 am]

BILLING CODE 7515-01-P